DEPARTMENT OF LABOR

[TA-W-91,352; TA-W-91,352A]

Employment and Training Administration

Amended Certification Regarding Eligibility To Apply for Worker Adjustment Assistance

TA-W-91,352, NORANDA ALUMINUM, INC., A SUBSIDIARY OF NORANDA ALUMINUM HOLDING CORPORATION INCLUDING ON-SITE LEASED WORKERS FROM MANPOWER, NEW MADRID, MISSOURI

TA-W-91,352A, EXPRESS PERSONNEL, RANDSTAD, AND WHELAN SECURITY COMPANY WORKING ON-SITE AT NORANDA ALUMINUM, INC., A SUBSIDIARY OF NORANDA ALUMINUM HOLDING CORPORATION, NEW MADRID, MISSOURI

In accordance with Section 223 of the Trade Act of 1974, as amended (“Act”), 19 U.S.C. 2273, the Department of Labor issued a Certification of Eligibility to Apply for Worker Adjustment Assistance on March 25, 2016 applicable to workers of Noranda Aluminum, Inc., a subsidiary of Noranda Aluminum Holding Corporation, including on-site leased workers from Manpower, Express Personnel, and Randstad, New Madrid, Missouri. The Department's notice of determination was published in the Federal Register on April 26, 2016 (81 FR 24648).

At the request of the State of Missouri, the Department reviewed the certification for workers of the subject firm. The workers are engaged in activities related to the production of aluminum smelter, aluminum sows, ingots, billets, and rods.

The company reports that workers leased from Whelan Security Company were employed on-site at the New Madrid, Missouri location of Noranda Aluminum, Inc., a subsidiary of Noranda Aluminum Holding Corporation. The Department has determined that these workers were sufficiently under the control of the subject firm to be considered leased workers.

Based on these findings, the Department is amending this certification to include workers leased from Whelan Security Company, working on-site at New Madrid, Missouri location of Noranda Aluminum, Inc., a subsidiary of Noranda Aluminum Holding Corporation.

The amended notice applicable to TA-W-91,352 and TA-W-91,352AS is hereby issued as follows:

All workers of Noranda Aluminum, Inc., a subsidiary of Noranda Aluminum Holding Corporation, including on-site leased workers from Manpower, New Madrid, Missouri, who became totally or partially separated from employment on or after February 5, 2016 through March 25, 2018, and all workers in the group threatened with total or partial separation from employment on date of certification through two years from the date of certification, are eligible to apply for adjustment assistance under Chapter 2 of Title II of the Trade Act of 1974, as amended;

AND,

All workers of Express Personnel, Randstad, and Whelan Security Company, working on-site at Noranda Aluminum, Inc., a subsidiary of Noranda Aluminum Holding Corporation, New Madrid, Missouri (TA-W-91,352A), who became totally or partially separated from employment on or after January 14, 2015 through March 25, 2018, and all workers in the group threatened with total or partial separation from employment on the date of certification through two years from the date of certification, are eligible to apply for adjustment assistance under Chapter 2 of Title II of the Trade Act of 1974, as amended.

Signed in Washington, DC, this 23rd day of May 2016.
Hope D. Kinglock,
Certifying Officer, Office of Trade Adjustment Assistance.

[FR Doc. 2016-15250 Filed 6-27-16; 8:45 am]

BILLING CODE P